DEPARTMENT OF COMMERCE

International Trade Administration

Quarterly Update to Annual Listing of Foreign Government Subsidies on Articles of Cheese Subject to an In-Quota Rate of Duty

AGENCY: Enforcement and Compliance, International Trade Administration, Department of Commerce.

DATES: Comments must be submitted by December 31, 2025.

ADDRESSES: The U.S. Department of Commerce (Commerce) encourages any person having information on foreign government subsidy programs which benefit articles of cheese subject to an in-quota rate of duty to submit such information in writing. All comments must be submitted through the Federal eRulemaking Portal at https://www.regulations.gov, Docket No. ITA-2020-0005. The materials in the docket will not be edited to remove identifying or contact information, and Commerce cautions against including any information in an electronic submission that the submitter does not want publicly disclosed. Attachments to electronic comments will be accepted in Microsoft Word, Excel, or Adobe PDF formats only. All comments should be addressed to Christopher Abbott, Deputy Assistant Secretary for Policy and Negotiations, performing the non-exclusive functions and duties of the Assistant Secretary for Enforcement and Compliance, at the U.S. Department of Commerce, 1401 Constitution Avenue NW, Washington, DC 20230.

FOR FURTHER INFORMATION CONTACT: Samuel Brummitt, AD/CVD Operations, Office III, Enforcement and Compliance, International Trade Administration, U.S. Department of Commerce, 1401 Constitution Avenue NW, Washington, DC 20230, telephone: (202) 482-7851.

SUPPLEMENTARY INFORMATION:

Background

On August 5, 2025, pursuant to section 702(h) of the Trade Agreements Act of 1979, as amended (the Act), Commerce published the quarterly update to the annual listing of foreign government subsidies on articles of cheese subject to an in-quota rate of duty covering the period January 1, 2025, through March 31, 2025.¹ In the First Quarter 2025 Update, we requested that any party that had information on foreign government subsidy programs that benefited articles of cheese subject to an in-quota rate of duty submit such information to Commerce.² We received no comments, information, or requests for consultation from any party.

¹ See Quarterly Update to Annual Listing of Foreign Government Subsidies on Articles of Cheese Subject to an In-Quota Rate of Duty, 90 FR 37472 (August 5, 2025) (First Quarter 2025 Update).

² Id.

Pursuant to section 702(h) of the Act, we hereby provide Commerce's update of subsidies on articles of cheese that were imported during the period April 1, 2025, through June 30, 2025. The appendix to this notice lists the country, the subsidy program or programs, and the gross and net amounts of each subsidy for which information is currently available. Commerce will incorporate additional programs which are found to constitute subsidies, and additional information on the subsidy programs listed, as the information is developed.

Notification to Interested Parties

This determination and notice are in accordance with section 702(a) of the Act.

Dated: November 19, 2025.
Christopher Abbott,
Deputy Assistant Secretary for Policy and Negotiations, performing the non-exclusive functions and duties of the Assistant Secretary for Enforcement and Compliance.

Appendix

Subsidy Programs on Cheese Subject to an In-Quota Rate of Duty

³ Defined in 19 U.S.C. 1677(5).

⁴ Defined in 19 U.S.C. 1677(6).

⁵ The 27 member states of the European Union are: Austria, Belgium, Bulgaria, Croatia, Cyprus, Czech Republic, Denmark, Estonia, Finland, France, Germany, Greece, Hungary, Ireland, Italy, Latvia, Lithuania, Luxembourg, Malta, Netherlands, Poland, Portugal, Romania, Slovakia, Slovenia, Spain, and Sweden.

Country | Program(s) | Gross ³ subsidy ($/lb.) | Net ⁴ subsidy ($/lb.)
27 European Union Member States ⁵ | European Union Restitution Payments | $0.00 | $0.00
Canada | Export Assistance on Certain Types of Cheese | 0.47 | 0.47
Norway | Indirect (Milk) Subsidy | 0.00 | 0.00
| Consumer Subsidy | 0.00 | 0.00
| Total | 0.00 | 0.00
Switzerland | Deficiency Payments | 0.00 | 0.00

[FR Doc. 2025-20734 Filed 11-21-25; 8:45 am]

BILLING CODE 3510-DS-P